ENVIRONMENTAL PROTECTION AGENCY

[FRL-9952-56-Region 6]

Clean Air Act Operating Permit Program; Petition for Objection to State Operating Permit for Yuhuang Chemical Company, Inc. Methanol Plant in Louisiana

AGENCY: Environmental Protection Agency (EPA).

ACTION: Notice of final action.

SUMMARY: Pursuant to Clean Air Act (CAA) Section 505(b)(2) and 40 CFR 70.8(d), the Environmental Protection Agency (EPA) Administrator signed an Order, dated August 31, 2016, denying in part and granting in part a petition asking EPA to object to the operating permit issued by the Louisiana Department of Environmental Quality (LDEQ) to Yuhuang Chemical Company, Inc. for its Methanol Plant (Title V operating permit 1560-00295-V0). The EPA's August 31, 2016 Order responds to a petition submitted by the Louisiana Environmental Action Network (LEAN) and Sierra Club (Collectively the Petitioners) on May 18, 2015. Sections 307(b) and 505(b)(2) of the Act provide that a petitioner may ask for judicial review of those portions of the Orders that deny objections raised in the petitions in the appropriate United States Court of Appeals. Any petition for review shall be filed by November 28, 2016, pursuant to section 307(b) of the Act.

ADDRESSES: You may review copies of the final Order, the petition, and other supporting information at EPA Region 6, 1445 Ross Avenue, Dallas, Texas 75202-2733.

EPA requests that if at all possible, you contact the individual listed in the FOR FURTHER INFORMATION CONTACT section to view copies of the final Order, petition, and other supporting information. You may view the hard copies Monday through Friday, from 9:00 a.m. to 3:00 p.m., excluding Federal holidays. If you wish to examine these documents, you should make an appointment at least 24 hours before the visiting day. Additionally, the final Order signed on August 31, 2016 is available electronically at: https://www.epa.gov/title-v-operating-permits/title-v-petition-database.

FOR FURTHER INFORMATION CONTACT: Brad Toups at (214) 665-7258, email address: toups.brad@epa.gov or the above EPA, Region 6 address.

SUPPLEMENTARY INFORMATION: The CAA affords EPA a 45-day period to review, and object, as appropriate, to a title V operating permit proposed by a state permitting authority. Section 505(b)(2) of the CAA authorizes any person to petition the EPA Administrator, within 60 days after the expiration of this review period, to object to a title V operating permit if EPA has not done so. Petitions must be based only on objections to the permit that were raised with reasonable specificity during the public comment period provided by the state, unless the petitioner demonstrates that it was impracticable to raise these issues during the comment period or unless the grounds for the issue arose after this period.

EPA received the petition from the Petitioners on May 18, 2015 for the operating permit issued on May 5, 2015 to Yuhuang Chemical Facility located in St. James Parish, Louisiana.

The Petitioner requested that the Administrator object to the proposed operating permit issued by the LDEQ to Yuhuang on several bases. In total, the Petitioner raised four primary claims in the Petition. The claims are described in detail in Section IV of the Order. In summary, the issues raised are that: (1, claim III) the permit fails to comply with the Act's requirements for public participation; (2, claim IV) the permit fails to meet PSD requirements; (3, claim V) a tank design is hazardous and there are additional unaccounted for emissions; and (4, claim VI) the LDEQ failed to adequately respond to EPA's comments. The Order issued on August 31, 2016 responds to claims III, IV, V, and VI (pp. 6-30).

Pursuant to sections 505(b) and 505(e) of the Clean Air Act (42 U.S.C. 7661d(b) and (e)) and 40 CFR 70.7(g) and 70.8(d), the Louisiana Department of Environmental Quality (LDEQ) has 90 days from the receipt of the Administrator's order to resolve the objections identified in Claim IV of the Order and submit a proposed determination or termination, modification, or revocation and reissuance of the Yuhuang Chemical Company, Inc. title V permit in accordance with the EPA's objection. The Order issued on August 31, 2016 responds to the Petition and explains the basis for EPA's decision.

Dated: September 21, 2016.
Ron Curry,
Regional Administrator, Region 6.

[FR Doc. 2016-23255 Filed 9-26-16; 8:45 am]

BILLING CODE 6560-50-P